DEPARTMENT OF TRANSPORTATION

Federal Aviation Administration

Advisory Circular 23.629-1B, Flutter

AGENCY: Federal Aviation Administration (FAA), DOT.

ACTION: Notice of availability of proposed advisory circular (AC) and request for comments.

SUMMARY: This notice announces the availability of and requests comments on a proposed revision to AC 23.629-1B. This proposed revision adds guidance for showing compliance to § 23.629, flutter (including divergence, and control reversal) of part 23 airplanes. This notice is necessary to allow the public the opportunity to comment on the proposed AC.

DATES: Comments must be received on or before April 26, 2004.

ADDRESSES: Send all comments on the proposed AC to: Federal Aviation Administration, Small Airplane Directorate, Aircraft Certification Service, Regulations and Policy (ACE-111), 901 Locust Street, Kansas City, Missouri 64106.

FOR FURTHER INFORMATION CONTACT: Mr. Mark James, Standards Office, Small Airplane Directorate, Aircraft Certification Service, Kansas City, Missouri 64106, telephone (816) 329-4137 fax (816) 329-4090.

SUPPLEMENTARY INFORMATION: Any person may obtain a copy of this proposed AC by contacting the person named above under FOR FURTHER INFORMATION CONTACT. A copy of the proposed AC will also be available on the Internet at http://www.airweb.faa.gov/AC within a few days.

Comments Invited: We invite interested parties to submit comments on the proposed AC. Commenters must identify AC 23.629-1B and submit comments to the address specified above. The FAA will consider all communications received on or before the closing date for comments before issuing the final AC. The proposed AC and comments received may be inspected at the Standards Office (ACE-110), 901 Locust, Room 301, Kansas City, Missouri, between the hours of 8:30 and 4 p.m. weekdays, except Federal holidays by making an appointment in advance with the person listed under FOR FURTHER INFORMATION CONTACT.

Background: When issued, AC 23.629-1B, Means of Compliance with section 23.629, Flutter, will replace AC 23.629-1A, Means of Compliance with section 23.629, Flutter, dated October 23, 1985.

Issued in Kansas City, Missouri on February 13, 2004.
Dorenda D. Baker,
Manager, Small Airplane Directorate, Aircraft Certification Service.

[FR Doc. 04-4178 Filed 2-24-04; 8:45 am]

BILLING CODE 4910-13-P